DEPARTMENT OF COMMERCE

National Institute of Standards and Technology

Notice of Jointly Owned Inventions Available for Licensing

AGENCY: National Institute of Standards and Technology, Commerce.

ACTION: Notice of jointly owned inventions available for licensing.

SUMMARY: The inventions listed below are jointly owned by the U.S. Government, as represented by the Department of Commerce. The inventions are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: (301) 975-4188 , fax (301) 869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST DOCKET NUMBER: 02-004US]

Title: Bio-Affinity Porous Matrix in Microfluidic Channels.

Abstract: This invention is jointly owned by the U.S. Government, as represented by the Department of Commerce, and Loyola College. Acrylamide-modified DNA probes are immobilized in polycarbonate microfluidic channels via photopolymerization in a polyacrylamide matrix. The resulting polymeric, hydrogel plugs are porous under electrophoretic conditions and hybridize with fluorescently-tagged complementary DNA. The double stranded DNA can be chemically denatured and the chip may be reused with a new analytical sample. Conditions for photopolymerization, hybridization, and denaturation are discussed. The photopolymerization of plugs containing different DNA probe sequences in one microfluidic channel, thereby enabling the selective detection of multiple DNA target in one electrophoretic pathway are demonstrated.

[NIST DOCKET NUMBER: 05-003US]

Title: Macro/Micro Crane.

Abstract: This invention is jointly owned by the U.S. Government, as represented by the Department of Commerce, and Oceaneering International, Inc. The invention describes a crane concept to facilitate the transfer of containerized cargo between two ships at sea. The invention uses a macro/micro design under which a serial set of independently controlled manipulators move a load between a base ship and a target ship. The manipulator is a modified container crane mounted on a ship subject to the actions of sea and wind. The modification compensates for the large motions of the base ship. The micro-manipulator moves the load and compensates for the motions of the receiving ship and the unscheduled motions of the base ship remaining after the macro-manipulator compensation.

Dated: June 7, 2005.
Hratch G. Semerjian,
Acting Director.

[FR Doc. 05-11730 Filed 6-13-05; 8:45 am]

BILLING CODE 3510-13-P